NATIONAL FOUNDATION ON THE ARTS AND THE HUMANITIES

Meeting of the National Museum and Library Services Board

AGENCY: Institute of Museum and Library Services.

ACTION: Notice of meeting, correction.

SUMMARY: This action corrects a notice published in the Federal Register on February 2, 2005, at 70 FR 5494. In that notice, the time and date of the Fourth Meeting of National Museum and Library Services Board was inadvertently published as 9 a.m. to 12:30 p.m. on Wednesday, February 9, 2005. The correct date of the Fourth Meeting of National Museum and Library Services Board is 9 a.m. to 12:30 p.m. on Wednesday, February 16, 2005. This action corrects that error. The agenda and address of the meeting remain as announced on February 2, 2005, at 70 FR 5494.

DATES: 9 a.m. to 12:30 p.m. on Wednesday, February 16, 2005.

FOR FURTHER INFORMATION CONTACT: Elizabeth Lyons, Special Assistant to the Director, Institute of Museum and Library Services, 1100 Pennsylvania Avenue, NW., Room 510, Washington, DC 20506—(202) 606-4649.

SUPPLEMENTARY INFORMATION: In the Institute of Museum and Library Services’ notice of meeting published on February 2, 2005, at 70 FR 5494, the date of the Fourth Meeting of National Museum and Library Services Board has been corrected as set forth in the Time/Date section of this notice. No other information has been changed. Notice of this meeting is required under the Sunshine in Government Act.

Dated: February 2, 2005.
Teresa LaHaie,
Administrative Officer, National Foundation on the Arts and the Humanities, Institute of Museum and Library Services.

[FR Doc. 05-2324 Filed 2-7-05; 8:45 am]

BILLING CODE 7036-01-M